DEPARTMENT OF LABOR

Employment and Training Administration

[TA-W-39,052]

Bechtel Jacobs LLC, Piketon, Ohio; Notice of Termination of Investigation

Pursuant to section 221 of the Trade Act of 1974, an investigation was initiated on April 16, 2001, in response to a worker petition which was filed by PACE Union Local 5-689 on behalf of workers at Bechtel Jacobs LLC, Piketon, Ohio. The workers are involved in activities related to fabricating uranium enriched nuclear fuel.

The petitioner has requested that the petition be withdrawn. Consequently further investigation in this case would serve no purpose, and the investigation has been terminated.

Signed at Washington, DC, this 10th day of July, 2001.
Linda G. Poole,
Certifying Officer, Division of Trade Adjustment Assistance.

[FR Doc. 01-18152 Filed 7-19-01; 8:45 am]

BILLING CODE 4510-30-M